DEPARTMENT OF JUSTICE

Antitrust Division

Notice Pursuant to the National Cooperative Research and Production Act of 1993—Industrial Macromolecular Crystallography Association

Correction

In notice document 2011—2412 appearing on page 6497 in the issue of Friday, February 4, 2011, make the following corrections:

1. On page 6497, in the second column, in the document's subject, “Notice Pursuant to the National Cooperative Research and Production Act of 1993—Industrial Nacromolecular Crystallography Association” should read “Notice Pursuant to the National Cooperative Research and Production Act of 1993—Industrial Macromolecular Crystallography Association”.

2. On the same page, in the second column, in the fourth line from the bottom, “Industrial Nacromolecular” should read “Industrial Macromolecular.”

3. On the same page, in the second column, in the third line from the bottom, “(“INCA”)” should read “(“IMCA”)”.

4. On the same page, in the third column, in the fifth line of the second paragraph, “INCA” should read “IMCA”.

5. On the same page, in the third column, in the first line of the third paragraph, “INCA” should read “IMCA”.

[FR Doc. C1-2011-2412 Filed 2-22-11; 8:45 am]

BILLING CODE 1505-01-D